DEPARTMENT OF TRANSPORTATION

Coast Guard

33 CFR Parts 26, 161, and 165

[USCG-1998-4399]

RIN 2115-AF75

Vessel Traffic Service Lower Mississippi River

AGENCY: Coast Guard, DOT.

ACTION: Proposed rulemaking; notice of reopening of comment period, and public meeting.

SUMMARY: The Coast Guard is reopening the period for public comment on the notice of proposed rulemaking (NPRM) establishing a Vessel Traffic Service (VTS) on the Lower Mississippi River published on April 26, 2000 (65 FR 24616). Due to several requests for additional time to comment, the Coast Guard is reopening the comment period. The Coast Guard will also schedule a public meeting to receive comments on the NPRM. The date and address of this meeting will be determined in the future, and subsequently published in a separate notice in the Federal Register.

DATES: Comments must reach the Coast Guard on or before December 1, 2000.

ADDRESSES: Please submit your comments and related material by any one of the following methods (but by only one, to avoid multiple listings in the public docket):

(1) By mail to the Docket Management Facility [USCG-1998-4399], U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The address of the meeting will be determined in the future, and subsequently published in a separate notice in the Federal Register.

FOR FURTHER INFORMATION CONTACT: For questions on the proposed rulemaking, contact Mr. Jorge Arroyo, Office of Vessel Traffic Management, (G-MWV), Coast Guard, telephone 202-267-6277. For questions on viewing or submitting material to the docket, call Ms. Dorothy Beard, Chief of Dockets, Department of Transportation, telephone 202-366-9329.

SUPPLEMENTARY INFORMATION: The notice of proposed rulemaking (NPRM) on a Vessel Traffic Service (VTS) on the Lower Mississippi River, published on April 26, 2000 (65 FR 24616), encouraged interested persons to participate in this rulemaking by submitting written data, views, or arguments by July 25, 2000. In response to several requests for additional comment time, the Coast Guard is reopening the comment period on the NPRM until December 1, 2000. Please do not resubmit comments that have already been made part of this docket. The NPRM and comments already received may be viewed at http://dms.dot.gov.

Persons submitting comments should include their names and addresses, identify this docket (USCG-1998-4399), the specific section of the NPRM to which each comment applies, and give the reason for each comment. Please submit one copy of each comment and attachment in an unbound format, no larger than 8½ by 11 inches, suitable for copying and electronic filing, to the DOT Docket Management Facility at the address under ADDRESSES. If you want acknowledgment of receipt of your comment, enclose a stamped, self-addressed postcard or envelope.

The Coast Guard will consider all comments received during the comment period. It may change this NPRM in view of them.

Public Meeting

The Coast Guard intends to hold a public meeting in the New Orleans area to receive comments on the NPRM. The exact date and location will be published in a notice in the Federal Register as soon as they are determined.

Dated: August 14, 2000.
Joseph J. Angelo,
Acting Assistant Commandant for Marine Safety and Environmental Protection.

[FR Doc. 00-21126 Filed 8-17-00; 8:45 am]

BILLING CODE 4910-15-U